DEPARTMENT OF THE INTERIOR

Bureau of Land Management

[LLIDT000000.L11200000.DD0000.241A.00; 4500069133]

Notice of Public Meeting, Twin Falls District Resource Advisory Council, Idaho

AGENCY: Bureau of Land Management, Interior.

ACTION: Notice of public meetings.

SUMMARY: In accordance with the Federal Land Policy and Management Act (FLPMA), the Federal Advisory Committee Act of 1972 (FACA), the U.S. Department of the Interior, Bureau of Land Management (BLM) Twin Falls District Resource Advisory Council (RAC) will meet as indicated below.

DATES: The Twin Falls District RAC will meet March 15, 2017.

ADDRESSES: The meeting will be held at the BLM Shoshone Fire Ready Room, 400 West F Street, Shoshone, Idaho 83352. The meeting will begin at 9:00 a.m. and end no later than 5:30 p.m. The public comment period will take place from 10:15-10:45 a.m.

FOR FURTHER INFORMATION CONTACT: Heather Tiel-Nelson, Twin Falls District, Idaho, 2878 Addison Ave. E., Twin Falls, Idaho, 83301, (208) 736-2352. Persons who use a telecommunications device for the deaf (TDD) may call the Federal Relay Service (FRS) at 1-800-877-8339, to contact the above individual. The FRS is available 24 hours a day, 7 days a week, to leave a message or question with the above individual. You will receive a reply during normal business hours.

SUPPLEMENTARY INFORMATION: The 15-member RAC advises the Secretary of the Interior, through the Bureau of Land Management, on a variety of planning and management issues associated with public land management in Idaho. During the March 15 meeting, there will be a new member orientation, an officer election, field office manager updates and an overview of the Idaho Department of Water Resources water recharge efforts—which will include an afternoon field tour. Additional topics may be added and will be included in local media announcements.

More information is available online at http://bit.ly/TFD-RAC

RAC meetings are open to the public.

Authority: 43 CFR 1784.4-1.

Elizabeth A. Maclean,
BLM Twin Falls District Manager (Acting).

[FR Doc. 2017-04071 Filed 3-2-17; 8:45 am]

BILLING CODE 4310-GG-P